COMMITTEE FOR PURCHASE FROM PEOPLE WHO ARE BLIND OR SEVERELY DISABLED

Procurement List; Proposed Additions

AGENCY: Committee for Purchase From People Who Are Blind or Severely Disabled.

ACTION: Proposed additions to procurement list.

SUMMARY: The Committee is proposing to add to the Procurement List services to be furnished by nonprofit agencies employing persons who are blind or have other severe disabilities.

DATES: Comments must be received on or before March 12, 2001.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740.

SUPPLEMENTARY INFORMATION: This notice is published pursuant to 41 U.S.C. 47(a)(2) and 41 CFR 51-2.3. Its purpose is to provide interested persons an opportunity to submit comments on the possible impact of the proposed actions.

If the Committee approves the proposed additions, all entities of the Federal Government (except as otherwise indicated) will be required to procure the services listed below from nonprofit agencies employing persons who are blind or have other severe disabilities.

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List. Comments on this certification are invited. Commenters should identify the statement(s) underlying the certification on which they are providing additional information.

The following services have been proposed for addition to Procurement List for production by the nonprofit agencies listed:

Services

Food Service

Naval Air Station, Pensacola, Naval Technical Training Center, Corry Station, Pensacola, FL

NPA: Lakeview Center, Inc., Pensacola, Florida

Janitorial/Custodial

FAA Facilities, ARTCC, Guard Shack, ZANNEX Building & ZAN Village, Anchorage, Alaska

NPA: MQC Enterprises, Inc., Anchorage, Alaska

Janitorial/Custodial

California Air National Guard, Building 546, Moffett Federal Airfield, California

NPA: VTF Services, Palo Alto, California

Janitorial/Custodial

VA Medical Center, Dental Laboratory, Washington, DC

NPA: Columbia Lighthouse for the Blind, Washington, DC

Janitorial/Custodial

Great Lakes Naval Training Center, Great Lakes, Illinois

NPA: Ada S. McKinley Community Services, Chicago, Illinois

Mailroom and Records Management Services

U.S. Army Corps of Engineers, Jacksonville, Florida

NPA: Tampa Lighthouse for the Blind, Tampa, Florida

G. John Heyer,
General Counsel.

[FR Doc. 01-3385 Filed 2-8-01; 8:45 am]

BILLING CODE 6353-01-P